DEPARTMENT OF AGRICULTURE

Forest Service

Fishlake Resource Advisory Committee

AGENCY: Forest Service, USDA.

ACTION: Notice of meeting.

SUMMARY: The Fishlake Resource Advisory Committee will meet in Richfield, Utah. The committee is meeting as authorized under the Secure Rural Schools and Community Self-Determination Act (Pub. L. 110-343) and in compliance with the Federal Advisory Committee Act. The purpose of the meeting is to review and recommend projects for approval, and receive public comments on the meeting subjects and proceedings.

DATES: The meeting will be held February 16, 2011, 1 p.m.

ADDRESSES: The meeting will be held at the Sevier County Administration Building, 250 N. Main in Richfield, Utah. Written comments should be sent to Fishlake National Forest, 115 E. 900 N. Richfield, UT 84701. Comments may also be sent via e-mail to jzapell@fs.fed.us, or via facsimile to 435-896-9347.

All comments, including names and addresses when provided, are placed in the record and are available for public inspection and copying. The public may inspect comments received at Fishlake National Forest, 115 E. 900 N., Richfield, UT. Visitors are encouraged to call ahead to (435) 896-1070 to facilitate entry into the building.

FOR FURTHER INFORMATION CONTACT: John Zapell, RAC Coordinator, Fishlake National Forest, (435) 896-1070; e-mail: jzapell@fs.fed.us.

Individuals who use telecommunication devices for the deaf (TDD) may call the Federal Information Relay Service (FIRS) at 1-800-877-8339 between 8 a.m. and 8 p.m., Eastern Standard Time, Monday through Friday.

SUPPLEMENTARY INFORMATION: The meeting is open to the public. The following business will be conducted: (1) Discuss establishing a separate charge code and set aside funding for member travel reimbursement, (2) review and recommend projects for approval, and (3) receive public comment on the meeting subjects and proceedings. Persons who wish to bring related matters to the attention of the Committee may file written statements with the Committee staff before or after the meeting. Public input sessions will be provided and individuals who made written requests by February 1, 2011 will have the opportunity to address the Committee at those sessions.

Dated: January 20, 2011.
Joseph G. Reddan,
Acting Forest Supervisor.

[FR Doc. 2011-1689 Filed 1-26-11; 8:45 am]

BILLING CODE 3410-11-P